DEPARTMENT OF LABOR

Employment and Training Administration

[TA-W-75,031]

Time-O-Matic, Inc., a Subsidiary of Watchfire Holding Company, Watchfire Enterprises, Inc., Including On-Site Leased Workers From Manpower, Trillium Staffing, Select Remedy, and Westaff, Danville, IL; Amended Certification Regarding Eligibility To Apply for Worker Adjustment Assistance

In accordance with Section 223 of the Trade Act of 1974, as amended (“Act”), 19 U.S.C. 2273, the Department of Labor issued a Certification of Eligibility to Apply for Worker Adjustment Assistance on February 28, 2011, applicable to workers of Time-O-Matic, Inc., a subsidiary of Watchfire Holding Company, Watchfire Enterprises, Inc., including on-site leased workers of Manpower and Trillium Staffing, Danville, Illinois. The workers produce outdoor advertising signs, such as light emitting diode (L.E.D.) message centers and billboards. The notice was published in the Federal Register on March 17, 2011 (76 FR 14692).

At the request of the State agency, the Department reviewed the certification for workers of the subject firm. The company reports that workers leased from Select Remedy and Westaff were employed on-site at the Danville, Illinois location of Time-O-Matic, Inc., a subsidiary of Watchfire Holding Company, Watchfire Enterprises, Inc. The Department has determined that these workers were sufficiently under the control of Time-O-Matic, Inc., a subsidiary of Watchfire Holding Company, Watchfire Enterprises, Inc. to be considered leased workers.

Based on these findings, the Department is amending this certification to include workers leased from Select Remedy and Westaff working on-site at the Danville, Illinois location of Time-O-Matic, Inc., a subsidiary of Watchfire holding Company, Watchfire Enterprises, Inc.

The amended notice applicable to TA-W-75,031 is hereby issued as follows:

All workers of Time-O-Matic, Inc., a subsidiary of Watchfire Holding Company, Watchfire Enterprises, Inc., including on-site leased workers from Manpower, Trillium Staffing, Select Remedy, and Westaff, Danville, Illinois, who became totally or partially separated from employment on or after December 21, 2009, through February 28, 2013, and all workers in the group threatened with total or partial separation from employment on the date of certification through two years from the date of certification, are eligible to apply for adjustment assistance under Chapter 2 of Title II of the Trade Act of 1974, as amended.

Signed at Washington, DC, this 12th day of December, 2011.
Del Min Amy Chen,
Certifying Officer, Office of Trade Adjustment Assistance.

[FR Doc. 2011-32610 Filed 12-20-11; 8:45 am]

BILLING CODE 4510-FN-P